DEPARTMENT OF COMMERCE

National Oceanic and Atmospheric Administration

[I.D. 081904A]

Proposed Information Collection; Comment Request; Northeast Region Gear Identification Collection

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before October 25, 2004.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Brian Hooker, National Marine Fisheries Service, 1 Blackburn Drive, Gloucester, MA 01930.

SUPPLEMENTARY INFORMATION:

I. Abstract

Regulations at 50 CFR 648.84(a), (b), and (d),§ 648.123(b)(3), § 648.144(b)(1), and § 697.21(a) and (b) require that Federal fishing permit holders using specified fishing gear mark that gear with specified information for the purposes of identification (e.g., official vessel number or other method identified in the regulations). The regulations also specify how the gear is to be marked for the purposes of visibility (e.g., buoys, radar reflectors, or other method identified in the regulations). The display of the identifying characters on fishing gear aids in fishery law enforcement. The marking of gear for visibility increases safety at sea.

II. Method of Collection

No information is submitted to the National Marine Fisheries Service (NMFS) as a result of this collection. The vessel official number or other means of identification specified in the regulations must be affixed to the buoy or other markers specified in the regulations.

III. Data

OMB Number: 0648-0351.

Form Number: None.

Type of Review: Regular submission.

Affected Public: Individuals or households; business or other for-profit organizations.

Estimated Number of Respondents: 4,388.

Estimated Time Per Response: 8.86 hours.

Estimated Total Annual Burden Hours: 38,878 hours.

Estimated Total Annual Cost to Public: $43,880.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 18, 2004.
Gwellnar Banks,
Management Analyst, Office of the Chief Information Officer.

[FR Doc. 04-19348 Filed 8-23-04; 8:45 am]

BILLING CODE 3510-22-S